DEPARTMENT OF AGRICULTURE

Animal and Plant Health Inspection Service

[Docket No. APHIS-2012-0077]

Notice of Availability of New Guidelines for Pest Risk Assessments of Imported Fruits and Vegetables

AGENCY: Animal and Plant Health Inspection Service, USDA.

ACTION: Notice.

SUMMARY: We are advising the public that the Animal and Plant Health Inspection Service (APHIS) has prepared a document that describes the revised methodology that APHIS will use to conduct plant health pest risk assessments for imported fruit and vegetable commodities. These new guidelines are necessary to incorporate advancements in pest risk assessment methods, provide clearer and more transparent analyses, and streamline the market access analysis process.

FOR FURTHER INFORMATION CONTACT: Ms. Meredith Jones, Senior Regulatory Policy Specialist, Regulatory Coordination and Compliance, PPQ, APHIS, 4700 River Road Unit 156, Riverdale, MD 20737; (301) 851-2289.

SUPPLEMENTARY INFORMATION:

Background

On October 17, 2000, under the authority of the Plant Protection Act (7 U.S.C. 7701 et seq.), the Animal and Plant Health Inspection Service (APHIS) began using a specific set of guidelines to conduct pathway-initiated, qualitative pest risk assessments (PRAs) for imports of fruits and vegetables. A PRA is defined by the International Plant Protection Convention (IPPC), of which the United States is a member, as an “evaluation of the probability of the introduction and spread of a pest and the magnitude of the associated potential economic consequences.” Following the characterization of the risk of the pest in the PRA, APHIS produces a risk management document to determine appropriate pest risk mitigation methods.

APHIS has determined that it is necessary to update the previous guidelines, which were developed over 10 years ago, in order to provide a more streamlined and efficient process for developing PRAs. Revising the PRA guidelines allows APHIS to incorporate advancements in PRA methods, provide a clearer, more transparent, and more logical order of progression of the assessment, and more closely align the assessments to the IPPC's international standards for phytosanitary measures. The new guidelines provide a more technically correct method of assessing risk by recognizing that the likelihood of pest introduction is multiplicative rather than additive; i.e., if one necessary step for the introduction of a pest has a low likelihood of occurring, there is an overall low likelihood of introduction of the pest, regardless of the likelihood of other steps. The new guidelines also address uncertainty, a principle not explicitly addressed in the previous guidelines. In addition, because the new guidelines are designed to make the PRA drafting process more efficient, we expect the time required to produce the PRAs and respond to market access requests to decrease.

The PRA guidelines document, entitled “Guidelines for Plant Pest Risk Assessment of Imported Fruit & Vegetable Commodities,” may be viewed on the Regulations.gov Web site at http://www.regulations.gov/#!docketDetail;D=APHIS-2012-0077 or in our reading room. The reading room is located in room 1141 of the USDA South Building, 14th Street and Independence Avenue SW., Washington, DC. Normal reading room hours are 8 a.m. to 4:30 p.m., Monday through Friday, except holidays. To be sure someone is there to help you, please call (202) 799-7039 before coming. In addition, copies may be obtained by calling or writing to the individual listed under FOR FURTHER INFORMATION CONTACT.

Authority: 7 U.S.C. 450, 7701-7772, and 7781-7786; 21 U.S.C. 136 and 136a; 7 CFR 2.22, 2.80, and 371.3.

Done in Washington, DC, this 28th day of February 2013.
Kevin Shea,
Acting Administrator, Animal and Plant Health Inspection Service.

[FR Doc. 2013-05138 Filed 3-5-13; 8:45 am]

BILLING CODE 3410-34-P